DEPARTMENT OF TRANSPORTATION

Federal Aviation Administration

14 CFR Part 39

[Docket No. 2001-NE-38-AD; Amendment 39-12529; AD 2001-24-12]

RIN 2120-AA64

Airworthiness Directives: Rolls-Royce Corporation (formerly Allison Engine Company) 250-C20 Series Turboshaft and 250-B17 Series Turboprop Engines, Correction

AGENCY: Federal Aviation Administration, DOT.

ACTION: Final rule; correction.

SUMMARY: This document makes a correction to Airworthiness Directive (AD) 2001-24-12 applicable to Rolls-Royce Corporation (formerly Allison Engine Company) 250-C20 series turboshaft and 250-B17 series turboprop engines, that was published in the Federal Register on December 4, 2001 (66 FR 62915). The AD number being superseded was inadvertently omitted under the PART 39—AIRWORTHINESS DIRECTIVES amendatory instruction 2 in the heading of the AD. This document corrects that omission. In all other respects, the original document remains the same.

EFFECTIVE DATE: December 19, 2001.

FOR FURTHER INFORMATION CONTACT: John Tallarovic, Aerospace Engineer, Chicago Aircraft Certification Office, FAA, Small Airplane Directorate, 2300 East Devon Avenue, Des Plaines, IL 60018; telephone (847) 294-8180, fax (847) 294-7834.

SUPPLEMENTARY INFORMATION: A final rule; request for comments airworthiness directive applicable to Rolls-Royce Corporation (formerly Allison Engine Company) 250-C20 series turboshaft and 250-B17 series turboprop engines was published in the Federal Register on December 4, 2001 (66 FR 62915). The following correction is needed:

§ 39.13 [Corrected]

On page 62916, in the first column, under PART 39—AIRWORTHINESS DIRECTIVES, amendatory instruction 2, the heading of the AD is corrected to read as follows:

2001-24-12 Rolls-Royce Corporation (formerly Allison Engine Company): Amendment 39-12529. Docket No. 2001-NE-38-AD. Supersedes AD 2001-20-51.

Issued in Burlington, Massachusetts, on December 14, 2001.
Francis A. Favara,
Acting Manager, Engine and Propeller Directorate, Aircraft Certification Service.

[FR Doc. 01-31327 Filed 12-21-01; 8:45 am]

BILLING CODE 4910-13-U